DEPARTMENT OF LABOR

Employment and Training Administration

[TA-W-65,388; TA-W-65,388A]

Findlay Industries, Inc., Findlay, OH; Findlay Industries, Inc., Springfield, OH; Notice of Termination of Investigation

Pursuant to Section 221 of the Trade Act of 1974, as amended, an investigation was initiated on February 26, 2009, in response to petitions filed by UNITE HERE!, Toledo, Ohio, on behalf of workers at Findlay Industries, Inc., Findlay and Springfield, Ohio.

The petitioner has requested that his petitions be withdrawn. Consequently, the investigation has been terminated.

Signed at Washington, DC, this 3rd day of April 2009.
Elliott S. Kushner
Certifying Officer, Division of Trade Adjustment Assistance.

[FR Doc. E9-10575 Filed 5-6-09; 8:45 am]

BILLING CODE 4510-FN-P